DEPARTMENT OF ENERGY

Federal Energy Regulatory Commission

Combined Notice of Filings #1

Take notice that the Commission received the following electric corporate filings:

Docket Numbers: EC21-10-000.

Applicants: NextEra Energy Transmission, LLC, GridLiance West LLC, GridLiance High Plains LLC, GridLiance HeartLand LLC.

Description: Joint Application for Authorization Under Section 203 of the Federal Power Act, et al. of NextEra Energy Transmission, LLC, et al.

Filed Date: 10/20/20.

Accession Number: 20201020-5121.

Comments Due: 5 p.m. ET 11/10/20.

Take notice that the Commission received the following electric rate filings:

Docket Numbers: ER19-2757-001.

Applicants: California Independent System Operator Corporation.

Description: Compliance filing: 2020-10-21 Compliance Filing FERC Order No. 831 to be effective 3/21/2021.

Filed Date: 10/21/20.

Accession Number: 20201021-5078.

Comments Due: 5 p.m. ET 11/12/20.

Docket Numbers: ER20-2360-001.

Applicants: California Independent System Operator Corporation.

Description: Compliance filing: 2020-10-21 Compliance Filing—CCDEBE to be effective 12/31/9998.

Filed Date: 10/21/20.

Accession Number: 20201021-5081.

Comments Due: 5 p.m. ET 11/12/20.

Docket Numbers: ER21-160-000.

Applicants: Duke Energy Florida, LLC.

Description: Tariff Cancellation: DEF—Cancellations of Rate Schedule Nos. 220, 219, 126 and 194 to be effective 1/1/2021.

Filed Date: 10/20/20.

Accession Number: 20201020-5084.

Comments Due: 5 p.m. ET 11/10/20.

Docket Numbers: ER21-161-000.

Applicants: Midcontinent Independent System Operator, Inc., MidAmerican Energy Company.

Description: § 205(d) Rate Filing: 2020-10-20_MidAmerican ADIT Proration Filing to be effective 1/1/2021.

Filed Date: 10/20/20.

Accession Number: 20201020-5091.

Comments Due: 5 p.m. ET 11/10/20.

Docket Numbers: ER21-162-000.

Applicants: PJM Interconnection, L.L.C.

Description: § 205(d) Rate Filing: PJM submits Revisions to OATT and OA re: Economic Planning Process to be effective 12/21/2020.

Filed Date: 10/20/20.

Accession Number: 20201020-5100.

Comments Due: 5 p.m. ET 11/10/20.

Docket Numbers: ER21-163-000.

Applicants: PJM Interconnection, L.L.C.

Description: § 205(d) Rate Filing: Original WMPA, Service Agreement No. 5830; Queue No. AF2-268 to be effective 9/21/2020.

Filed Date: 10/21/20.

Accession Number: 20201021-5027.

Comments Due: 5 p.m. ET 11/12/20.

Docket Numbers: ER21-164-000.

Applicants: PJM Interconnection, L.L.C.

Description: § 205(d) Rate Filing: Original WMPA, Service Agreement No. 5826; Queue No. AF2-215 to be effective 9/21/2020.

Filed Date: 10/21/20.

Accession Number: 20201021-5035.

Comments Due: 5 p.m. ET 11/12/20.

Docket Numbers: ER21-165-000.

Applicants: Southwest Power Pool, Inc.

Description: § 205(d) Rate Filing: 3127R2 Montana-Dakota Utilities Co. NITSA and NOA to be effective 10/1/2020.

Filed Date: 10/21/20.

Accession Number: 20201021-5037.

Comments Due: 5 p.m. ET 11/12/20.

Docket Numbers: ER21-166-000.

Applicants: AEP Texas Inc.

Description: § 205(d) Rate Filing: AEPTX-Oncor Electric Delivery Company 4th A&R Interconnection Agreement to be effective 10/10/2020.

Filed Date: 10/21/20.

Accession Number: 20201021-5053.

Comments Due: 5 p.m. ET 11/12/20.

Docket Numbers: ER21-167-000.

Applicants: Montour, LLC.

Description: Tariff Cancellation: Notice of Cancellation of Superseded Certificates of Concurrence to be effective 9/30/2020.

Filed Date: 10/21/20.

Accession Number: 20201021-5060.

Comments Due: 5 p.m. ET 11/12/20.

Docket Numbers: ER21-168-000.

Applicants: Montour, LLC.

Description: Tariff Cancellation: Notice of Cancellation of Superseded Certificates of Concurrence to be effective 9/30/2020.

Filed Date: 10/21/20.

Accession Number: 20201021-5061.

Comments Due: 5 p.m. ET 11/12/20.

Docket Numbers: ER21-169-000.

Applicants: Montana-Dakota Utilities Co., Basin Electric Power Cooperative, Midcontinent Independent System Operator, Inc., Southwest Power Pool, Inc.

Description: Compliance filing: Amendment No. 1 to Partial Settlement in ER14-2850-006 and ER14-2851-006 to be effective N/A.

Filed Date: 10/21/20.

Accession Number: 20201021-5075.

Comments Due: 5 p.m. ET 11/12/20.

Docket Numbers: ER21-170-000.

Applicants: PacifiCorp.

Description: § 205(d) Rate Filing: RS 319 Suppl 5 PSCo-TriState PTSA to be effective 1/1/2021.

Filed Date: 10/21/20.

Accession Number: 20201021-5083.

Comments Due: 5 p.m. ET 11/12/20.

Docket Numbers: ER21-171-000.

Applicants: Tucson Electric Power Company.

Description: § 205(d) Rate Filing: Service Agreement for Firm Long Term Transmission Service to be effective 9/21/2020.

Filed Date: 10/21/20.

Accession Number: 20201021-5091.

Comments Due: 5 p.m. ET 11/12/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 21, 2020.
Kimberly D. Bose,
Secretary.

[FR Doc. 2020-23729 Filed 10-26-20; 8:45 am]

BILLING CODE 6717-01-P